DEPARTMENT OF ENERGY

Federal Energy Regulatory Commission

Combined Notice of Filings

Take notice that the Commission has received the following Natural Gas Pipeline Rate and Refund Report filings:

Filings Instituting Proceedings

Docket Numbers: RP14-1285-000.

Applicants: Transcontinental Gas Pipe Line Company.

Description: § 4(d) rate filing per 154.204: Negotiated Rates—Cherokee AGL—Replacement Shippers—Oct 2014 to be effective 10/1/2014.

Filed Date: 9/29/14.

Accession Number: 20140929-5148.

Comments Due: 5 p.m. ET 10/14/14.

Docket Numbers: RP14-1286-000.

Applicants: Interstate Power & Light Company, Minnesota Energy Resources Corporation.

Description: Joint Petition for Temporary Waiver of Commission Policies, Capacity Release Regulations and Related Tariff Provisions and Request for Expedited Action of Interstate Power & Light Company, et. al.

Filed Date: 9/29/14.

Accession Number: 20140929-5168.

Comments Due: 5 p.m. ET 10/14/14.

Docket Numbers: RP14-1287-000.

Applicants: Algonquin Gas Transmission, LLC.

Description: § 4(d) rate filing per 154.204: Negotiated Rate Release—Great Western to EDF eff 10-1-2014 to be effective 10/1/2014.

Filed Date: 9/29/14.

Accession Number: 20140929-5211.

Comments Due: 5 p.m. ET 10/14/14.

Docket Numbers: RP14-1288-000.

Applicants: Southern Star Central Gas Pipeline, Inc.

Description: § 4(d) rate filing per 154.204: Vol 2—Expiration of Non-Conforming Agreement—Cotton Valley Compression, LLC to be effective 3/1/2014.

Filed Date: 9/29/14.

Accession Number: 20140929-5273.

Comments Due: 5 p.m. ET 10/14/14.

Docket Numbers: RP14-1289-000.

Applicants: Tennessee Gas Pipeline Company, L.L.C.

Description: § 4(d) rate filing per 154.204: Volume No. 2—Rose Lake Expansion Project to be effective 11/1/2014.

Filed Date: 9/29/14.

Accession Number: 20140929-5328.

Comments Due: 5 p.m. ET 10/14/14.

Docket Numbers: RP14-1290-000.

Applicants: Millennium Pipeline Company, LLC.

Description: § 4(d) rate filing per 154.601: Negotiated Rate Service Agreement—Columbia to be effective 11/1/2014.

Filed Date: 9/30/14.

Accession Number: 20140930-5097.

Comments Due: 5 p.m. ET 10/14/14.

Docket Numbers: RP14-1291-000.

Applicants: Guardian Pipeline, L.L.C.

Description: § 4(d) rate filing per 154.204: EPC Semi-Annual Adjustment—Fall 2014 to be effective 11/1/2014.

Filed Date: 9/30/14.

Accession Number: 20140930-5146.

Comments Due: 5 p.m. ET 10/14/14.

Docket Numbers: RP14-1292-000.

Applicants: Viking Gas Transmission Company.

Description: § 4(d) rate filing per 154.204: Semi-Annual FLRP—Fall 2014 to be effective 11/1/2014.

Filed Date: 9/30/14.

Accession Number: 20140930-5175.

Comments Due: 5 p.m. ET 10/14/14.

Docket Numbers: RP14-1293-000.

Applicants: Columbia Gas Transmission, LLC.

Description: § 4(d) rate filing per 154.601: Negotiated & Non-Conforming Service Agmts—Line 1570 to be effective 11/1/2014.

Filed Date: 9/30/14.

Accession Number: 20140930-5185.

Comments Due: 5 p.m. ET 10/14/14.

Docket Numbers: RP14-1294-000.

Applicants: Columbia Gas Transmission, LLC.

Description: § 4(d) rate filing per 154.601: Non-Conforming Service Agmts—OPT-60 to be effective 11/1/2014.

Filed Date: 9/30/14.

Accession Number: 20140930-5192.

Comments Due: 5 p.m. ET 10/14/14.

Docket Numbers: RP14-1295-000.

Applicants: Rockies Express Pipeline LLC.

Description: § 4(d) rate filing per 154.204: Neg Rate 2014-09-30 Encana to be effective 10/1/2014.

Filed Date: 9/30/14.

Accession Number: 20140930-5198.

Comments Due: 5 p.m. ET 10/14/14.

Docket Numbers: RP14-1296-000.

Applicants: Young Gas Storage Company, Ltd.

Description: Young Gas Storage Company, Ltd. Operational Purchases and Sales Annual Report.

Filed Date: 9/30/14.

Accession Number: 20140930-5211.

Comments Due: 5 p.m. ET 10/14/14.

Docket Numbers: RP14-1297-000.

Applicants: Cimarron River Pipeline, LLC.

Description: Cash Out Refund Report of Cimarron River Pipeline, LLC.

Filed Date: 9/30/14.

Accession Number: 20140930-5212.

Comments Due: 5 p.m. ET 10/14/14.

Docket Numbers: RP14-1298-000.

Applicants: Wyoming Interstate Company, L.L.C.

Description: Annual Operational Purchases and Sales Report of Wyoming Interstate Company, L.L.C.

Filed Date: 9/30/14.

Accession Number: 20140930-5217.

Comments Due: 5 p.m. ET 10/14/14.

Docket Numbers: RP14-1299-000.

Applicants: Dominion Transmission, Inc.

Description: § 4(d) rate filing per 154.403: DTI—2014 Annual EPCA to be effective 11/1/2014.

Filed Date: 9/30/14.

Accession Number: 20140930-5224.

Comments Due: 5 p.m. ET 10/14/14.

Docket Numbers: RP14-1300-000.

Applicants: Dominion Transmission, Inc.

Description: § 4(d) rate filing per 154.403(d)(2): DTI—2014 Annual TCRA to be effective 11/1/2014.

Filed Date: 9/30/14.

Accession Number: 20140930-5227.

Comments Due: 5 p.m. ET 10/14/14.

Docket Numbers: RP14-1301-000.

Applicants: Dominion Transmission, Inc.

Description: § 4(d) rate filing per 154.204: DTI—Allegheny Storage Project (CP12-72) Transportation Service Implementation to be effective 11/1/2014.

Filed Date: 9/30/14.

Accession Number: 20140930-5239.

Comments Due: 5 p.m. ET 10/14/14.

Docket Numbers: RP14-1302-000.

Applicants: Equitrans, L.P.

Description: § 4(d) rate filing per 154.601: Negotiated Rate AGS Service Agreement—EQT Energy, LLC to be effective 10/1/2014.

Filed Date: 9/30/14.

Accession Number: 20140930-5272.

Comments Due: 5 p.m. ET 10/14/14.

Docket Numbers: RP14-1303-000.

Applicants: Equitrans, L.P.

Description: § 4(d) rate filing per 154.601: Negotiated Rate Agreement—EQT Energy effective 10-01-2014 to be effective 10/1/2014.

Filed Date: 9/30/14.

Accession Number: 20140930-5284.

Comments Due: 5 p.m. ET 10/14/14.

Docket Numbers: RP14-1304-000.

Applicants: Tallgrass Interstate Gas Transmission, L.

Description: § 4(d) rate filing per 154.204: Neg Rate 2014-9-13 Cross Timbers A&R NRA to be effective 10/1/2014.

Filed Date: 9/30/14.

Accession Number: 20140930-5305.

Comments Due: 5 p.m. ET 10/14/14.

Docket Numbers: RP14-1305-000.

Applicants: Cheniere Creole Trail Pipeline, L.P.

Description: § 4(d) rate filing per 154.402: CCTPL Transportation Retainage Adjustment to be effective 11/1/2014.

Filed Date: 9/30/14.

Accession Number: 20140930-5318.

Comments Due: 5 p.m. ET 10/14/14.

Docket Numbers: RP14-1306-000.

Applicants: Tennessee Gas Pipeline Company, L.L.C.

Description: § 4(d) rate filing per 154.204: Pipeline Safety and Greenhouse Gas Cost Adjustment to be effective 11/1/2014.

Filed Date: 9/30/14.

Accession Number: 20140930-5327.

Comments Due: 5 p.m. ET 10/14/14.

Docket Numbers: RP15-1-000.

Applicants: ANR Pipeline Company.

Description: § 4(d) rate filing per 154.601: Wisconsin Electric Power Company ETS Agmts to be effective 11/1/2014.

Filed Date: 10/1/14.

Accession Number: 20141001-5012.

Comments Due: 5 p.m. ET 10/14/14.

Docket Numbers: RP15-2-000.

Applicants: ANR Storage Company.

Description: § 4(d) rate filing per 154.601: United Energy Trading FS Agmt to be effective 10/1/2014.

Filed Date: 10/1/14.

Accession Number: 20141001-5014.

Comments Due: 5 p.m. ET 10/14/14.

Docket Numbers: RP15-3-000.

Applicants: Trunkline Gas Company, LLC.

Description: Compliance filing per 154.203: Annual Report of Flow Through filed 10-1-14.

Filed Date: 10/1/14.

Accession Number: 20141001-5040.

Comments Due: 5 p.m. ET 10/14/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-1193-001.

Applicants: Columbia Gas Transmission, LLC.

Description: Compliance filing per 154.203: Section 4 Revisions—Compliance Filing to be effective 11/1/2014

Filed Date: 9/30/14.

Accession Number: 20140930-5241.

Comments Due: 5 p.m. ET 10/14/14.

Docket Numbers: RP14-540-002.

Applicants: Paiute Pipeline Company.

Description: Compliance filing per 154.203: Place Interim Rates into Effect—Rate Case RP14-540 to be effective 9/1/2014.

Filed Date: 9/30/14.

Accession Number: 20140930-5308.

Comments Due: 5 p.m. ET 10/14/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2014.
Nathaniel J. Davis, Sr.,
Deputy Secretary.

[FR Doc. 2014-23947 Filed 10-7-14; 8:45 am]

BILLING CODE 6717-01-P